DEPARTMENT OF COMMERCE

International Trade Administration

[A-489-829]

Steel Concrete Reinforcing Bar From the Republic of Turkey: Preliminary Results of Antidumping Duty Administrative Review and Preliminary Determination of No-Shipments; 2018-2019

AGENCY: Enforcement and Compliance, International Trade Administration, Department of Commerce.

SUMMARY: The Department of Commerce (Commerce) preliminarily determines that producers or exporters of steel concrete reinforcing bar (rebar) from the Republic of Turkey (Turkey) subject to this review made sales of subject merchandise at less than normal value during the period of review (POR) July 1, 2018 through June 30, 2019. Additionally, we preliminarily find that one company made no shipments during the POR. We invite all interested parties to comment on these preliminary results.

DATES: Applicable November 24, 2020.

FOR FURTHER INFORMATION CONTACT: Robert Copyak or Thomas Dunne, AD/CVD Operations, Office VII, Enforcement and Compliance, International Trade Administration, U.S. Department of Commerce, 1401 Constitution Avenue NW, Washington, DC 20230; telephone: (202) 482-3642 or (202) 482-2328, respectively.

SUPPLEMENTARY INFORMATION:

Background

On July 14, 2017, Commerce published the antidumping duty order on rebar from Turkey.¹ On September 9, 2019, in accordance with 19 CFR 351.221(c)(1)(i), Commerce initiated an administrative review of the Order, covering eight companies.² On February 20, 2020, Commerce selected Icdas Celik Enerji Tersane ve Ulasim Sanayi A.S. (Icdas) and Kaptan Demir Celik Endüstrisi ve Ticaret A.S. (Kaptan Demir) as the mandatory respondents for this review.³ On March 26, 2020, pursuant to section 751(a)(3)(A) of the Tariff Act of 1930, as amended (the Act), and 19 CFR 351.213(h)(2), Commerce extended the time limit for issuing the preliminary results of this administrative review to May 29, 2020.⁴ On April 24, 2020, Commerce tolled all deadlines in administrative reviews by 50 days, thereby extending the deadline for issuing the preliminary results of this administrative review to July 20, 2020.⁵ On July 19, 2020, pursuant to section 751(a)(3)(A) of the Act and 19 CFR 351.213(h)(2), Commerce again extended the time limit for issuing the preliminary results of this administrative review to September 18, 2020.⁶ On July 21, 2020, Commerce again tolled all deadlines for preliminary and final results in administrative reviews by an additional 60 days.⁷ Therefore, the deadline for the preliminary results of this administrative review is now November 17, 2020.

¹ See Steel Concrete Reinforcing Bar from the Republic of Turkey and Japan: Amended Final Affirmative Antidumping Duty Determination for the Republic of Turkey and Antidumping Duty Orders, 82 FR 32532 (July 14, 2017) (Order).

² See Initiation of Antidumping and Countervailing Duty Administrative Reviews, 84 FR 47251 (September 9, 2019) (Initiation Notice).

³ See Memorandum, “Respondent Selection for the Antidumping Duty Administrative Review of Steel Concrete Reinforcing Bar from the Republic of Turkey, 2018-2019,” dated February 20, 2019. Subsequently, Icdas filed a letter on the record stating that two of the company names listed in the Initiation Notice—Icdas Celik Enerji Tersane ve Ulasim and Icdas—are the same company. See Icdas' Letter, “Steel Concrete Reinforcing Bar from the Republic of Turkey; Icdas' Clarification Letter,” dated February 21, 2020.

⁴ See Memorandum, “Steel Concrete Reinforcing Bar from the Republic of Turkey: Extension of Deadline for Preliminary Results of Antidumping Duty Administrative Review,” dated March 26, 2020.

⁵ See Memorandum, “Tolling of Deadlines for Antidumping and Countervailing Duty Administrative Reviews in Response to Operational Adjustments Due to COVID-19,” dated April 24, 2020.

⁶ See Memorandum, “Steel Concrete Reinforcing Bar from the Republic of Turkey: Extension of Deadline for Preliminary Results of Antidumping Administrative Review,” dated June 19, 2020.

⁷ See Memorandum, “Tolling of Deadlines for Antidumping and Countervailing Duty Administrative Reviews,” dated July 21, 2020.

Scope of the Order

The product covered by the Order is steel concrete reinforcing bar from Turkey. For a full description of the scope, see the Preliminary Decision Memorandum.⁸

⁸ See Memorandum, “Decision Memorandum for Preliminary Results of the Antidumping Duty Administrative Review: Steel Concrete Reinforcing Bar from the Republic of Turkey; 2018-2019” dated concurrently with, and hereby adopted by, this notice (Preliminary Decision Memorandum).

Methodology

Commerce is conducting this review in accordance with section 751(a) of the Act. Export price is calculated in accordance with section 772 of the Act. Normal value is calculated in accordance with section 773 of the Act. For a full description of the methodology underlying these preliminary results, see the Preliminary Decision Memorandum. A list of topics discussed in the Preliminary Decision Memorandum is attached as an appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/. The signed and electronic versions of the Preliminary Decision Memorandum are identical in content.

Preliminary Determination of No Shipments

On September 11, 2019, Habas Sinai ve Tibbi Gazlar Istihsal Endüstrisi A.S (Habas) submitted a letter certifying that it had no exports or sales of subject merchandise into the United States during the POR.⁹ U.S. Customs and Border Protection (CBP) did not have any information to contradict these claims of no shipments during the POR.¹⁰ Therefore, we preliminarily determine that Habas did not have any shipments of subject merchandise during the POR. Consistent with Commerce's practice, we will not rescind the review with respect to Habas but rather will complete the review and issue instructions to CBP based on the final results.¹¹

⁹ See Preliminary Decision Memorandum at 5.

¹⁰ Id.

¹¹ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

Rates for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available {time}.”

We calculated a preliminary weighted-average dumping margin of 19.10 percent for Icdas and 11.80 percent for Kaptan Demir the POR. Commerce calculated the rate for the companies not selected for individual examination using a weighted-average of the estimated weighted-average dumping margins calculated for Icdas and Kaptan Demir and each company's publicly-ranged values for the merchandise under consideration.¹²

¹² For a complete analysis of the data, See Memorandum, “Preliminary Results of the Antidumping Administrative Review of Steel Concrete Reinforcing Bar from the Republic of Turkey: Calculation of the Cash Deposit Rate for Non-Reviewed Companies,” dated November 17, 2020 (Non-Reviewed Companies Memo).

Preliminary Results of This Review

As a result of this review, we preliminarily determine the following estimated weighted-average dumping margins for the period July 1, 2018 through June 30, 2019:

Producers/exporters | Estimated weighted-average dumping margin (percent)
Icdas Celik Enerji Tersane ve Ulasim Sanayi A.S¹³ | 19.10
Kaptan Demir Celik Endüstrisi ve Ticaret A.S | 11.80
Review-Specific Average Rate Applicable to the Following Companies ¹⁴
Colakoglu Dis Ticaret A.S | 17.30
Colakoglu Metalurji A.S | 17.30
Diler Dis Ticaret A.S | 17.30
Kaptan Metal Dis Ticaret ve Nakliyat A.S | 17.30

We intend to disclose the calculations performed within five days of the date of publication of this notice to parties in this proceeding, in accordance with 19 CFR 351.224(b).

¹³ See supra n.3. We have determined that the two company names (Icdas Celik Enerji Tersane ve Ulasim and Icdas) refer to the same company, and the rate calculated for Icdas applies to both company names. See Preliminary Decision Memorandum at 2.

¹⁴ This rate is based on the rates for the respondents that were selected for individual review, excluding rates that are zero, de minimis, or based entirely on facts available. See section 735(c)(5)(A) of the Act; see also Non-Reviewed Companies Memo.

Disclosure and Public Comment

Commerce intends to disclose its calculations performed within five days of the date of publication of this notice in accordance with 19 CFR 351.224(b). Pursuant to 19 CFR 351.309(c)(1)(ii), interested parties will have the opportunity to comment on the preliminary results and may submit case briefs no later than 30 days after the publication of this notice. Rebuttal briefs, limited to issues raised in case briefs, may be submitted no later than seven days after the deadline date for case briefs.¹⁵ Pursuant to 19 CFR 351.309(c)(2) and (d)(2), parties who submit case briefs or rebuttal briefs in this review are encouraged to submit with each argument: (1) A statement of the issue; a brief summary of the argument; and (3) a table of authorities. Executive summaries should be limited to five pages total, including footnotes. Case and rebuttal briefs should be filed using ACCESS ¹⁶ and must be served on interested parties.¹⁷ Note that Commerce has temporarily modified certain of its requirements for serving documents containing business proprietary information, until further notice.¹⁸

¹⁵ See 19 CFR 351.309(c)(1)(ii) and 351.309(d)(1).

¹⁶ See 19 CFR 351.303 (for general filing requirements).

¹⁷ See 19 CFR 351.303(f).

¹⁸ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. An electronically-filed document must be received successfully in its entirety by ACCESS by 5:00 p.m. Eastern Time within 30 days after the date of publication of this notice. Requests should contain: (1) The party's name, address, and telephone number; (2) the number of participants; (3) whether any participant is a foreign national; and (4) a list of issues parties intend to discuss. Issues raised in the hearing will be limited to those raised in the respective case and rebuttal briefs.¹⁹ If a request for a hearing is made, Commerce intends to hold the hearing at a time and date to be determined.²⁰ Parties should confirm by telephone the date, time, and location of the hearing two days before the scheduled date.

¹⁹ See 19 CFR 351.310(c).

²⁰ See 19 CFR 351.310(c).

Assessment Rates

Upon completion of the administrative review, Commerce shall determine, and U.S. CBP shall assess, antidumping duties on all appropriate entries covered by this review. Commerce intends to issue assessment instructions to CBP 15 days after the date of publication of the final results of this review.

For any individually examined respondents whose weighted-average dumping margin is above de minimis (i.e., 0.50 percent), we will calculate importer-specific ad valorem duty assessment rates based on the ratio of the total amount of dumping calculated for the importer's examined sales to the total entered value of those same sales in accordance with 19 CFR 351.212(b)(1).²¹ For entries of subject merchandise during the POR produced by each respondent for which it did not know its merchandise was destined for the United States, we will instruct CBP to liquidate such entries at the all-others rate if there is no rate for the intermediate company(ies) involved in the transaction.²² Where either the individually-selected respondent's weighted-average dumping margin is zero or de minimis, or an importer-specific assessment rate is zero or de minimis, we will instruct CBP to liquidate the appropriate entries without regard to antidumping duties.

²¹ In these preliminary results, Commerce applied the assessment rate calculation methodology adopted in Antidumping Proceedings: Calculation of the Weighted-Average Dumping Margin and Assessment Rate in Certain Antidumping Proceedings: Final Modification, 77 FR 8101 (February 14, 2012).

²² See Antidumping and Countervailing Duty Proceedings: Assessment of Antidumping Duties, 68 FR 23954 (May 6, 2003).

For the companies which were not selected for individual review, we intend to assign an assessment rate based on the methodology described in the “Rates for Non-Examined Companies” section.

The final results of this review shall be the basis for the assessment of antidumping duties on entries of merchandise covered by this review where applicable.

Cash Deposit Requirements

The following deposit requirements will be effective for all shipments of the subject merchandise entered, or withdrawn from warehouse, for consumption on or after the publication date of the final results of this administrative review, as provided by section 751(a)(2)(C) of the Act: (1) The cash deposit rate for the companies under review will be the rate established in the final results of this review (except, if the ad valorem rate is de minimis, then the cash deposit rate will be zero); (2) for previously reviewed or investigated companies not covered in this review, the cash deposit rate will continue to be the company-specific rate published for the most recently-completed segment of this proceeding in which the company was reviewed; (3) if the exporter is not a firm covered in this review, a prior review, or the original investigation, but the producer is, the cash deposit rate will be the rate established for the most recently-completed segment of this proceeding for the producer of subject merchandise; and (4) the cash deposit rate for all other manufacturers or exporters will continue to be 7.26 percent, the all-others rate established in the investigation.²³

²³ See Order, 82 FR at 32533.

Final Results of Review

Unless otherwise extended, Commerce intends to issue the final results of this administrative review, including the results of our analysis of issues raised by the parties in the written comments, within 120 days of publication of these preliminary results, pursuant to section 751(a)(3)(A) of the Act and 19 CFR 351.213(h)(1).

Notification to Importers

This notice serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of doubled antidumping duties.

Notification to Interested Parties

The preliminary results of review are issued and published in accordance with sections 751(a)(1) and 777(i)(1) of the Ac, and 19 CFR 351.221(b)(4).

Dated: November 17, 2020.
Jeffrey I. Kessler,
Assistant Secretary for Enforcement and Compliance.

Appendix

List of Topics Discussed in the Preliminary Decision Memorandum

I. Summary

II. Background

III. Scope of the Order

IV. Companies Not Selected for Individual Examination

V. Preliminary Determination of No Shipments

VI. Discussion of the Methodology

VII. Recommendation

[FR Doc. 2020-25952 Filed 11-23-20; 8:45 am]

BILLING CODE 3510-DS-P